COMMISSION ON CIVIL RIGHTS

Sunshine Act Meeting

Agency: U.S. Commission on Civil Rights.

Date and Time: Friday, November 14, 2003, 9:30 a.m.

Place: U.S. Commission on Civil Rights, 624 9th Street, NW., Room 540, Washington, DC 20425.

Status:

Agenda

I. Approval of Agenda

II. Approval of Minutes of October 17, 2003 Meeting

III. Announcements

IV. Staff Director's Report

V. Future Agenda Items

10 a.m. Briefing on Lewis Mumford Center Study “How Race Counts for Hispanic Americans”.

For Further Information Contact: Les Jin, Press and Communications (202) 376-7700.

Debra A. Carr,
Deputy General Counsel.

[FR Doc. 03-28206 Filed 11-5-03; 12:30 pm]

BILLING CODE 6335-01-M